DEPARTMENT OF COMMERCE

International Trade Administration

United States Travel and Tourism Advisory Board: Meeting of the United States Travel and Tourism Advisory Board

AGENCY: International Trade Administration, U.S. Department of Commerce.

ACTION: Notice of an Open Meeting.

SUMMARY: The United States Travel and Tourism Advisory Board (Board) will hold its second meeting of the term on Tuesday, July 29, 2014. The Board was re-chartered in August 2013, to advise the Secretary of Commerce on matters relating to the travel and tourism industry. At the meeting, members will discuss the May 22 presidential memorandum establishing a national goal and developing airport specific action plans to enhance the entry process for international travelers to the United States, available at the White House Web site at http://www.whitehouse.gov/the-press-office/2014/05/22/presidential-memorandum-establishing-national-goal-and-developing-airpor. The Board's newly established subcommittees will also present initial reports and draft work plans on the Board's anticipated work examining entry, visa, infrastructure, Brand USA, cultural and natural heritage and data. The Board will deliberate the plans so that subcommittee work may begin. The agenda may change to accommodate Board business. The final agenda will be posted on the Department of Commerce Web site for the Board at http://trade.gov/ttab, at least one week in advance of the meeting.

DATES: Tuesday, July, 29, 2014, 10:00 a.m.-1:00 p.m. Central Daylight Time and open for public comments.

ADDRESSES: Radisson Blu, 2100 Killebrew Drive, Bloomington, MN 55425.

The meeting room will be provided upon request.

FOR FURTHER INFORMATION CONTACT: Jennifer Pilat, the United States Travel and Tourism Advisory Board, Room 4043, 1401 Constitution Avenue NW., Washington, DC 20230, telephone: 202-482-4501, email: jennifer.pilat@trade.gov.

SUPPLEMENTARY INFORMATION:

Background: The Board advises the Secretary of Commerce on matters relating to the U.S. travel and tourism industry.

Public Participation: The meeting will be open to the public and will be physically accessible to people with disabilities. All guests are required to register in advance. The meeting room will be provided upon registration. Seating is limited and will be on a first come, first served basis. Requests for sign language interpretation, other auxiliary aids, or pre-registration, should be submitted no later than 5 p.m. EDT on July 21, 2014, to Jennifer Pilat, the U.S. Travel and Tourism Advisory Board, Room 4043, 1401 Constitution Avenue NW., Washington, DC 20230, telephone 202-482-4501, OACIE@trade.gov. Last minute requests will be accepted, but may be impossible to fill. There will be 30 minutes of time allotted for oral comments from members of the public attending the meeting. Any member of the public may submit pertinent written comments concerning the Board's affairs at any time before or after the meeting.

Comments may be submitted to Jennifer Pilat at the contact information indicated above. To be considered during the meeting, comments must be received no later than 5:00 p.m. EDT on July 21, 2014, to ensure transmission to the Board prior to the meeting.

Comments received after that date will be distributed to the members but may not be considered at the meeting. Copies of Board meeting minutes will be available within 90 days of the meeting.

Dated: July 7, 2014.
Elizabeth Emanuel,
Executive Secretary, United States Travel and Tourism Advisory Board.

[FR Doc. 2014-16292 Filed 7-11-14; 8:45 am]

BILLING CODE 3510-DR-P